GENERAL SERVICES ADMINISTRATION

[Notice-PBS-2020-09; Docket No. 2020-0002; Sequence No. 39]

Record of Decision of the Supplemental Environmental Impact Statement for the Proposed Master Plan Amendment 2 of the Consolidation of the U.S. Department of Homeland Security Headquarters at the St. Elizabeths West Campus

AGENCY: Public Buildings Service, National Capital Region, General Services Administration (GSA).

ACTION: Notice.

SUMMARY: GSA issued a Record of Decision (ROD) for the 2020 Master Plan Amendment 2 for the Consolidation of the U.S. Department of Homeland Security (DHS) at the St. Elizabeths West Campus, located in Southeast, Washington, DC, on October 9, 2020. The ROD was prepared in accordance with the National Environmental Policy Act (NEPA) of 1969, the Council on Environmental Quality Regulations, and the GSA Public Buildings Service NEPA Desk Guide.

DATES: Applicable: Friday, October 9, 2020.

ADDRESSES: The ROD can be found on GSA's project website at www.gsa.gov/ncrnepa.

FOR FURTHER INFORMATION CONTACT: Paul Gyamfi, GSA, National Capital Region, Public Buildings Service, Office of Planning and Design Quality, at 202-440-3405, or by email at paul.gyamfi@gsa.gov.

SUPPLEMENTARY INFORMATION:

Background

One of the principal missions of GSA is to provide secure office space for Federal agencies throughout the United States, including the Washington, DC, metropolitan area. GSA obtained control of the St. Elizabeths West Campus in Southeast, Washington, DC, in 2004, in anticipation of meeting a portion of the need for secure Federal office space in the National Capital Region (NCR). On June 7, 2005, GSA published a Notice of Intent (NOI), and on June 28, 2007, a revised NOI, to prepare an Environmental Impact Statement (EIS) in compliance with the National Environmental Policy Act of 1969 (NEPA) for the proposed redevelopment of the St. Elizabeths West Campus.

GSA issued a Record of Decision (ROD) for the 2008 Final Master Plan EIS on December 16, 2008, selecting the alternative that consolidated 4.5 million gross square feet of secure office and shared-use space and associated parking on both the West and East Campuses at St. Elizabeths. As part of the 2008 Final Master Plan EIS for this action, GSA also assessed, on a programmatic level, the impacts of constructing 750,000 gross square feet of office space and associated parking on the St. Elizabeths East Campus. GSA noted in its ROD that an EIS tiered to the 2008 Final Master Plan EIS would be prepared for the East Campus.

On November 19, 2018, GSA published an NOI to prepare an EIS for St. Elizabeths Master Plan Amendment 2, which eliminates development on the East Campus and re-evaluates development on the St. Elizabeths West Campus to accommodate 4.1 million gross square feet of secure office and shared-use space, and 1.6 million gross square feet of associated parking, for the DHS Headquarters consolidation. The Master Plan Amendment 2 Draft SEIS was issued for a 70-day public comment period on May 8, 2020 and the Master Plan Amendment 2 Final SEIS was issued for a 30-day public review on August 28, 2020.

Comments received during public review of the Master Plan Amendment 2 Final EIS are provided in Appendix A along with GSA's responses

Preferred Alternative

GSA has chosen to implement Alternative B as defined in the Master Plan Amendment 2 Final Environmental Impact Statement (EIS), issued August 2020. This decision is based on analyses contained in the Master Plan Amendment 2 Draft EIS issued in May 2020, the Master Plan Amendment 2 Final EIS issued in August 2020, the Programmatic Agreement executed in December 2008, the Memorandum of Agreement executed on September 29, 2020, and the comments of Federal and state agencies, stakeholder organizations, members of the public, and elected officials.

Alternative B includes the addition of 1.2 million gross square feet of office space in two separate office structures organized around two enclosed courtyards on the plateau site at the West Campus. The new office buildings will range from three to eight stories, and the largest part of the structures will have an east-west orientation to optimize the use of daylight. The courtyards will be secured to provide open space for building occupants. Building B1 will be stepped down into the ravine near Building 56/57 to stabilize the slope in that area. Building 56/57 will be integrated into the design of Building B1 to provide a connection between the historic and new construction. Buildings 52 and 64 will be retained, rehabilitated, and adaptively reused.

Alternative B also includes the addition of 175,000 gross square feet of office space on the Sweetgum Lane site (proposed Building C1), organized into primarily below-grade construction, with one two-story building constructed to mirror the northwest corner of the Munro Building. The building would include up to three below-grade levels, which would take advantage of the site slope from east to west, allowing the western edge of the building to receive daylight. A central courtyard would provide internal daylighting.

Alternative B will also consist of the following:

• An additional 1,014 employee parking spaces added to the previously proposed underground parking garages at Gates 1 and 2 on the east side of the West Campus;

• Demolition of Buildings 60, 66, 67, 68, and 69, which total 65,295 gross square feet of space, at the plateau site;

• Demolition of Building 15, which totals 2,749 gross square feet of space, at the Sweetgum Lane site;

• Sidewalks and walkways, including enhanced pedestrian connections at the ravine;

• Engineering for stabilization of steep slopes, including building foundations;

• Realignment of site drainages and incorporation of landscaping and stormwater management;

• Shuttle bus drop-off locations;

• Shipping/receiving areas for buildings;

• Electric power, communications, and utility corridors designed for buildings and site improvements; and

• Remediation of contaminated soils.

Kristi Tunstall Williams,
Deputy Director, Office of Planning and Design Quality, Public Buildings Service, National Capital Region, General Services Administration.

[FR Doc. 2020-22605 Filed 10-9-20; 8:45 am]

BILLING CODE 6820-Y1-P